DEPARTMENT OF ENERGY

Federal Energy Regulatory Commission

[Docket No. RP03-507-002]

Northern Border Pipeline Company; Notice of Compliance Filing

December 18, 2003.

Take notice that on December 12, 2003, Northern Border Pipeline Company (Northern Border) tendered for filing to become part of Northern Border Pipeline Company's FERC Gas Tariff, First Revised Volume No. 1, the following tariff sheets to become effective July 1, 2003:

Second Substitute Fifth Revised Sheet No. 272

Second Substitute Original Sheet No. 272A

Substitute Original Sheet No. 272A.01

Northern Border states that the purpose of this filing is to comply with the Commission's Order at Docket No. RP03-507-001 dated November 18, 2003, 105 FERC ¶ 61,228, wherein the Commission directed Northern Border to file revised tariff sheets consistent with the conditions as discussed in the body of the Order.

Northern Border states that copies of this filing have been sent to all of Northern Border's contracted shippers and interested state regulatory commissions.

Any person desiring to protest said filing should file a protest with the Federal Energy Regulatory Commission, 888 First Street NE., Washington, DC 20426, in accordance with section 385.211 of the Commission's Rules and Regulations. All such protests must be filed in accordance with section 154.210 of the Commission's Regulations. Protests will be considered by the Commission in determining the appropriate action to be taken, but will not serve to make protestants parties to the proceedings. This filing is available for review at the Commission in the Public Reference Room or may be viewed on the Commission's Web site at http://www.ferc.gov using the eLibrary link. Enter the docket number excluding the last three digits in the docket number field to access the document. For assistance, please contact FERC Online Support at FERCOnlineSupport@ferc.gov or toll-free at (866) 208-3676, or TTY, contact (202) 502-8659. The Commission strongly encourages electronic filings. See, 18 CFR 385.2001(a)(1)(iii) and the instructions on the Commission's Web site under the e-Filing link.

Magalie R. Salas,
Secretary.

[FR Doc. E3-00641 Filed 12-24-03; 8:45 am]

BILLING CODE 6717-01-P